DEPARTMENT OF HEALTH AND HUMAN SERVICES

Centers for Medicare & Medicaid Services

42 CFR Parts 400, 406, 407, 408, 410, 423, 431, and 435

[CMS-4199-CN]

RIN 0938-AU85

Medicare Program; Implementing Certain Provisions of the Consolidated Appropriations Act, 2021 and Other Revisions to Medicare Enrollment and Eligibility Rules; Correction

AGENCY: Centers for Medicare & Medicaid Services (CMS), Department of Health and Human Services (HHS).

ACTION: Final rule; correction.

SUMMARY: This document corrects technical and typographical errors that appeared in the final rule published in the Federal Register on November 3, 2022, entitled “Medicare Program; Implementing Certain Provisions of the Consolidated Appropriations Act, 2021 and other Revisions to Medicare Enrollment and Eligibility Rules.”

DATES: Effective date: This correcting document is effective on December 30, 2022.

FOR FURTHER INFORMATION CONTACT: Kristy Nishimoto, (206) 615-2367.

SUPPLEMENTARY INFORMATION:

I. Background

In FR Doc. 2022-23407 of November 3, 2022 (87 FR 66454), there were a several technical and typographical errors that are identified and corrected in this correcting document.

II. Summary of Errors

A. Summary of Errors in the Preamble

On page 66457, in a table that provides an example of the current entitlement dates compared to the revisions made by the Consolidated Appropriations Act, 2021 (CAA) there were inadvertent typographical errors in the formatting of a row of table.

On page 66468, in our discussion of the special enrollment period (SEP) to coordinate with termination of Medicaid coverage, we made typographical errors in referencing a regulatory citation.

On page 66496, in our discussion of the information collection requirements regarding beneficiary enrollment simplification, we inadvertently omitted a word.

B. Summary of Errors in the Regulations Text

On page 66506, in the amendatory instructions for § 407.25 we made a technical error in the instruction regarding paragraph (b)(3).

III. Waiver of Proposed Rulemaking

We ordinarily publish a notice of proposed rulemaking in the Federal Register and invite public comment on the proposed rule in accordance with 5 U.S.C. 553(b) of the Administrative Procedure Act (APA). The notice of proposed rulemaking includes a reference to the legal authority under which the rule is proposed, and the terms and substances of the proposed rule or a description of the subjects and issues involved. This procedure can be waived, however, if an agency finds good cause that a notice-and-comment procedure is impracticable, unnecessary, or contrary to the public interest and incorporates a statement of the finding and its reasons in the rule issued.

We believe that this final rule correcting document does not constitute a rule that would be subject to the notice and comment or delayed effective date requirements. This document merely corrects minor typographical errors in the final rule, but it does not make substantive changes to the policies or the implementing regulations that were adopted in the final rule. As a result, this final rule correcting document is intended to ensure that the information in the final rule accurately reflects the policies and regulatory amendments adopted in that document.

In addition, even if this were a rule to which the notice and comment procedures and delayed effective date requirements applied, we find that there is good cause to waive such requirements. Undertaking further notice and comment procedures to incorporate the minor corrections in this document into the final rule or delaying the effective date would be unnecessary, as we are not altering our policies or regulatory changes, but rather, we are simply implementing correctly the policies and regulatory changes that we previously proposed, requested comment on, and subsequently finalized. This final rule correcting document is intended solely to ensure that the final rule accurately reflects these policies and regulatory changes. Furthermore, such notice and comment procedures would be contrary to the public interest because it is in the public's interest to ensure that the final rule accurately reflects our policies and regulatory changes. Therefore, we believe we have good cause to waive the notice and comment and effective date requirements.

IV. Correction of Errors

In FR Doc. 2022-23407 of November 3, 2022 (87 FR 66454), make the following corrections:

1. On page 66457, upper one-third of the page, the untitled table, the table is corrected to read as follows:

Enrolls: | Prior to 1/1/23—entitlement begins on: | On or after 1/1/23—entitlement begins on:
In IEP
January | April 1 (month eligibility requirements first met) | April 1 (month eligibility requirements first met).
February | April 1 | April 1.
March | April 1 | April 1.
April | May 1 (month following month of enrollment) | May 1.
May | July 1 (second month after month of enrollment) | June 1.
June | September 1 (third month after month of enrollment) | July 1.
July | October 1 (third month after month of enrollment) | August 1.
In GEP
January | July 1 | February.
February | July 1 | March.
March | July 1 | April.

2. On page 66468 in the first column, second full paragraph, last line, the regulatory citation “407.27(f)” is corrected to read “407.23(f)”.

3. On page 66468 in the third column, second full paragraph, line 11, the regulatory citation, “407.27(f)” is corrected to read “407.23(f)”.

4. On page 66496, first column, second full paragraph, line 4, the phrase, “Exceptional Conditions” is corrected to read “Other Exceptional Conditions”.

5. On page 66506, third column, amendatory instruction 16 (§ 407.25), is corrected to read, “16. Effective January 1, 2023, § 407.25 is amended by revising paragraphs (a) and (b)(1) and adding paragraph (b)(3) to read as follows:”

Elizabeth J. Gramling,
Executive Secretary to the Department, Department of Health and Human Services.

[FR Doc. 2022-28359 Filed 12-29-22; 8:45 am]

BILLING CODE 4120-01-P